DEPARTMENT OF THE INTERIOR

Bureau of Indian Affairs

Land Acquisitions; Shakopee Mdewakanton Sioux Community

AGENCY: Bureau of Indian Affairs, Interior.

ACTION: Notice of final agency determination to take land into trust under 25 CFR part 151.

SUMMARY: The Assistant Secretary—Indian Affairs, U.S. Department of the Interior has made a final determination to acquire real property “in trust” for the Shakopee Mdewakanton Sioux Community.

FOR FURTHER INFORMATION CONTACT: Ms. Vicki Forrest, Deputy Director of Trust Services, Bureau of Indian Affairs, 1849 C Street, NW., MS 4620-MIB, Washington, DC 20240; telephone: 202-208-5831.

SUPPLEMENTARY INFORMATION: This notice is published to comply with the requirement of 25 CFR 151.12(b) that notice be given to the public of the decision by the authorized representative of the Secretary of the Interior to acquire land “in trust” at least 30 days prior to signatory acceptance of land “in trust”. The purpose of the 30-day waiting period is to afford interested parties the opportunity to seek judicial review of administrative decisions to take land “in trust” for Tribes or individual Indians before transfer of title to the properties occurs. On June 7, 2007, the Assistant Secretary—Indian Affairs issued a Notice of Decision to accept approximately 752.41 acres of land “in trust” for the Shakopee Mdewakanton Sioux Community under the authority of Section 5 of the Indian Reorganization Act of 1934, 25 United States Code (U.S.C.) 465.

The Assistant Secretary—Indian Affairs, on behalf of the Secretary of the Interior, shall acquire title in the name of the United States of America in trust for Shakopee Mdewakanton Sioux Community no sooner than 30 days after the initial date this notice is published in the Federal Register.

The land is referred to as Parcels 1, 2, 3 & 4, herein and is described as:

752.41 Acres—Fourth Principal Meridian, Scott County, Minnesota

SMSC Trust Acquisition

PARCEL NUMBER 1

Legal Description excluding land transferred to Scott County.

Containing 569.01 acres more or less.

Parcel 1:The West Half of the Southwest Quarter of Section 15, Township 115, Range 22, Scott County, Minnesota.

Also

Those parts of Government Lots 4 and 5, and that part of the Southwest Quarter of the Northwest Quarter, all in Section 15, Township 115, Range 22, Scott County, Minnesota, lying southerly of the centerline of County Road 16, EXCEPT those parts lying northerly of a line 75.00 feet southerly of the following described line:

Commencing at the Northwest corner of the Northwest Quarter of the Northeast Quarter of Section 16, Township 115 North, Range 22 West; thence South 89 degrees 29 minutes 40 seconds East on an assumed bearing along the North line of said Northwest Quarter of the Northeast Quarter a distance of 1128.54 feet, to the point of beginning of said line to be described; thence easterly and southeasterly for a distance of 1794.93 feet along a non-tangential curve concave to the South, having a radius of 4107.00 feet and a central angle of 25 degrees 02 minutes 26 seconds, the chord of said curve bears South 69 degrees 10 minutes 09 seconds East a chord distance of 1780.68 feet; thence South 56 degrees 38 minutes 56 seconds East a distance of 494.50 feet, thence easterly and southeasterly for a distance of 879.71 feet along a tangential curve concave to the North, having a radius of 3842.72 feet and a central angle of 13 degrees 07 minutes 00 seconds; thence South 69 degrees 45 minutes 56 seconds East for a distance of 1445.00 feet of said line there terminating.

Abstract Property

Parcel 2: The Northeast Quarter of the Northeast Quarter of Section 16, Township 115, Range 22, Scott County, Minnesota, EXCEPT that part which lies northerly of a line 75.00 feet southerly of and parallel with the following described Line A and which lies southerly of the following described Line B:

LINE A: Commencing at the Northwest corner of the Northwest Quarter of the Northeast Quarter of said Section 16; thence South 89 degrees 29 minutes 40 seconds East on an assumed bearing along the North line of said Northwest Quarter of the Northeast Quarter for a distance of 1128.54 feet, to the point of beginning of said line to be described; thence easterly and southeasterly for a distance of 1794.93 feet along a non-tangential curve concave to the South, having a radius of 4107.00 feet and a central angle of 25 degrees 02 minutes 26 seconds, the chord of said curve bears South 69 degrees 10 minutes 09 seconds East a chord distance of 1780.68 feet; thence South 56 degrees 38 minutes 56 seconds East a distance of 494.50 feet; thence easterly and southeasterly for a distance of 879.71 feet along a tangential curve concave to the North, having a radius of 3842.72 feet and a central angle of 13 degrees 07 minutes 00 seconds; thence South 69 degrees 45 minutes 56 seconds East for a distance of 1445.00 feet and said line there terminating.

LINE B: Commencing at the northeast corner of the Northeast Quarter of the Northeast Quarter of said Section 16, thence on an assumed bearing of South 00 degrees 41 minutes 40 seconds West along the east line of said Northeast Quarter of the Northeast Quarter, a distance of 343.57 feet to it's intersection with the northerly right of way line of County Road 16, the point of beginning of the line to be described; thence northwesterly along a non-tangential curve, concave to the south, a distance of 274.52 feet, radius of 1764.54 feet, delta angle of 8 degrees 54 minutes 50 seconds, a chord bearing of North 69 degrees 33 minutes 24 seconds West, a chord distance of 274.52 feet, along said northerly right of way line of County Road 16, thence North 74 degrees 00 minutes 50 seconds West, a distance of 397.14 feet, along said northerly right of way line of County Road 16, to it's intersection with a line that is 75 feet northerly of and parallel with the above described Line A, thence northwesterly along a non-tangential curve, concave to the south, a distance of 499.44 feet, radius of 4182.00 feet, delta angle of 6 degrees 50 minutes 34 seconds, a chord bearing of North 72 degrees 43 minutes 14 seconds West, a chord distance of 499.15 feet, along said parallel line, to it's intersection with the north line of the Northeast Quarter of the Northeast Quarter, thence North 89 degrees 29 minutes 40 seconds West, along said north line, a distance of 208.51 feet to the northwest corner of the Northeast Quarter of the Northeast Quarter and there terminating.

Also

The South Half of the Northeast Quarter and the North Half of the Southeast Quarter, except the Westerly 100 feet thereof, and the Southeast Quarter of the Southeast Quarter, all in Section 16, Township 115, Range 22, Scott County, Minnesota.

Abstract Property

Parcel 3: The Northeast Quarter of the Northeast Quarter (NE ¼ of the NE ¼) of Section 21, Township 115, Range 22, according to the United States Government Survey thereof and situate in Scott County, Minnesota.

Abstract Property

Parcel 4: The Northwest Quarter of the Northwest Quarter (NW ¼ of the NW ¼) of Section 22, Township 115, Range 22, according to the United States Government Survey thereof and situate in Scott County, Minnesota.

Abstract Property

Parcel 5: The South Three-fourths of the East one-half of the Southwest Quarter (S ¾ of the E ½ of the SW ¼) of Section 15, Township 115, Range 22, according to the United States Government Survey thereof and situate in Scott County, Minnesota.

Abstract Property

Parcel 6: The Northeast Quarter of the Northwest Quarter (NE ¼ of the NW ¼) of Section 22, Township 115, Range 22, Scott County, Minnesota. EXCEPTING THEREFROM, the following described tract: Commencing at the Northeast corner of said Northeast Quarter of the Northwest Quarter; thence South (assumed bearing) along the East line thereof a distance of 621.16 feet to the point of beginning of the tract of land to be described; thence continuing South along said East line a distance of 349.75 feet; thence North 89 degrees 48 minutes 10 seconds West, a distance of 501.20 feet; thence North 4 degrees 18 minutes 10 seconds West, a distance of 326.00 feet; thence North 87 degrees 29 minutes 48 seconds East, a distance of 526.17 feet to the point of beginning, according to the United States Government Survey thereof and situate in Scott County, Minnesota.

Abstract Property

SMSC Trust Acquisition

PARCEL NUMBER 2

Legal Description excluding land transferred to Scott County

Containing 77.00 acres more or less

The East Half of the Northeast Quarter (E ½ of NE ¼) of Section 22, Township 115, Range 22, according to the United States Government Survey thereof and situate in Scott County, Minnesota.

Abstract Property

SMSC Trust Acquisition

PARCEL NUMBER 3

Legal Description excluding land transferred to Scott County

Containing 104.40 acres more or less

The East half of the Southeast Quarter of Section 33, Township 115, Range 22, according to the United States Government Survey thereof and situate in Scott County, Minnesota.

and

That part of the West 24.00 acres of the Northwest Quarter of the Southwest Quarter of Section 34, Township 115, Range 22, Scott County, Minnesota lying West of the East 16.00 acres of said Northwest Quarter of the Southwest Quarter, according to the United States Government Survey thereof and situate in Scott County, Minnesota.

SMSC Trust Acquisition

PARCEL NUMBER 4

Legal Description excluding land transferred to Scott County

Containing 2.00 acres more or less

The West 249.00 feet of the South 350.00 feet, as measured along the South and West lines respectively, of Outlot O, The Wilds, according to the recorded plat thereof, and situate in Scott County, Minnesota.

Abstract Property

Dated: June 28, 2007.
Carl J. Artman,
Assistant Secretary—Indian Affairs.

[FR Doc. E7-19139 Filed 9-26-07; 8:45 am]

BILLING CODE 4310-W7-P